DEPARTMENT OF COMMERCE

National Oceanic and Atmospheric Administration

[RTID 0648-XC603]

Marine Mammals; File No. 23644

AGENCY: National Marine Fisheries Service (NMFS), National Oceanic and Atmospheric Administration (NOAA), Commerce.

ACTION: Notice; receipt of application for permit amendment.

SUMMARY: Notice is hereby given that Iain Kerr, D.H.L., Ocean Alliance, 32 Horton Street, Gloucester, MA 01930, has applied for an amendment to Scientific Research Permit No. 23644-01.

DATES: Written, telefaxed, or email comments must be received on or before January 17, 2023.

ADDRESSES: The application and related documents are available for review by selecting “Records Open for Public Comment” from the “Features” box on the Applications and Permits for Protected Species (APPS) home page, https://apps.nmfs.noaa.gov, and then selecting File No. 23644 from the list of available applications. These documents are also available upon written request via email to NMFS.Pr1Comments@noaa.gov.

Written comments on this application should be submitted via email to NMFS.Pr1Comments@noaa.gov. Please include File No. 23644-02 in the subject line of the email comment.

Those individuals requesting a public hearing should submit a written request via email to NMFS.Pr1Comments@noaa.gov. The request should set forth the specific reasons why a hearing on this application would be appropriate.

FOR FURTHER INFORMATION CONTACT: Amy Hapeman or Shasta McClenahan, (301)427-8401.

SUPPLEMENTARY INFORMATION: The subject amendment to Permit No. 23644-01 is requested under the authority of the Marine Mammal Protection Act of 1972, as amended (16 U.S.C. 1361 et seq.), the regulations governing the taking and importing of marine mammals (50 CFR part 216), the Endangered Species Act of 1973, as amended (16 U.S.C. 1531 et seq.), and the regulations governing the taking, importing, and exporting of endangered and threatened species (50 CFR parts 222-226).

Permit No. 23644, issued on October 26, 2020 (85 FR 73263, November 17, 2020), authorizes the permit holder to conduct research on 22 cetacean species in U.S. and international waters of the North Atlantic and North Pacific Oceans to study cetacean toxicology, microplastics, acoustics, and behavioral ecology. Researchers may conduct vessel surveys including unmanned aircraft system (UAS) operations, biological sampling, counts, passive acoustics, photo-ID, photograph/video, observations, photogrammetry, and thermal imaging. Cetaceans also may be unintentionally harassed during surveys. Samples collected on the high seas or under other authorizations worldwide may be imported for study. The permit was amended on January 27, 2022 (as No. 23644-01), to authorize additional UAS models and UAS operations at night. For the current amendment, the permit holder requests to add suction-cup tagging by UAS for up to 30 humpback whales (Megaptera novaeangliae) each in North Atlantic and North Pacific waters and 30 minke whales (Balaenoptera acutorostrata) in North Atlantic waters as part of their behavioral ecology studies. The amendment would be valid for the duration of the permit, until October 31, 2025.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: December 13, 2022.
Julia M. Harrison,
Chief, Permits and Conservation Division, Office of Protected Resources, National Marine Fisheries Service.

[FR Doc. 2022-27343 Filed 12-15-22; 8:45 am]

BILLING CODE 3510-22-P